DEPARTMENT OF AGRICULTURE

Food and Nutrition Service

Request for Information: Grain-Based Desserts and High-Protein Yogurt Crediting in Child Nutrition Programs

AGENCY: Food and Nutrition Service (FNS), USDA.

ACTION: Notice; Request for Information.

SUMMARY: The U.S. Department of Agriculture's (USDA) Food and Nutrition Service (FNS) requests comments from the public to help inform future policymaking, guidance, and technical assistance related to grain-based desserts and high-protein yogurt (which may include Greek and Greek-style yogurt) crediting in the Child Nutrition Programs. FNS welcomes comments from all interested partners, including child nutrition professionals, State agencies, the food industry, the research community, and other individuals and organizations with an interest in the Child Nutrition Programs.

DATES: Written comments must be received on or before March 26, 2025.

ADDRESSES: USDA invites the submission of the requested information through one of the following methods:

• Federal eRulemaking Portal (preferred method): Go to http://www.regulations.gov. Follow the online instructions for submitting comments.

• Mail: Send written comments to the Child Nutrition Programs, USDA Food and Nutrition Service, Braddock Metro Center II, 1320 Braddock Place, Alexandria, VA 22314.

All comments submitted in response to this Request for Information will be included in the record and will be made available to the public. Please be advised that the substance of the comments and the identity of the individuals or entities submitting the comments will be subject to public disclosure. USDA will make the comments publicly available via https://www.regulations.gov.

FOR FURTHER INFORMATION CONTACT: Heather Hopwood, School Meals Policy Division, Child Nutrition Programs, USDA Food and Nutrition Service, 703-305-2054.

SUPPLEMENTARY INFORMATION:

Child Nutrition Programs: Meal Patterns & Food Crediting

The U.S. Department of Agriculture's (USDA's) Child Nutrition Programs (CNPs) help to ensure that participants have access to nutritious meals and snacks in schools, summer food service programs, child and adult care centers and homes, afterschool programs, and emergency shelters. Program operators plan meals and snacks that meet participants' nutrition and energy requirements by following meal patterns that are consistent with the goals of the “Dietary Guidelines for Americans” (hereafter referred to as “Dietary Guidelines”).¹

¹ U.S. Department of Agriculture and U.S. Department of Health and Human Services. Dietary Guidelines for Americans, 2020-2025. 9th Edition. December 2020. Available at: http://www.DietaryGuidelines.gov.

CNP meal patterns establish the types of foods and minimum serving sizes that Program operators must offer to receive Federal reimbursement for meals or snacks served.² The meal patterns are based on food groups (meal components), rather than individual nutrients. CNP meal patterns require daily and, in some cases, weekly amounts of certain meal components for breakfasts, lunches, suppers, and snacks. While the component groupings and requirements differ slightly by Program, they generally include some combination of fruits, vegetables, grains, meats/meat alternates, and fluid milk. Each CNP has unique meal patterns specific to the nutrient needs of the various age and grade groups served by each Program. In addition to the required meal components, National School Lunch Program (NSLP) and School Breakfast Program (SBP) meals must, on average, meet weekly dietary specifications for calories, sodium, and saturated fat. Beginning in school year (SY) 2027-2028, school lunches and breakfasts must also meet, on average, a weekly added sugars limit of less than 10 percent of calories across the week.³ This change better aligns school meals with the Dietary Guidelines recommendation to limit added sugars intake to fewer than 10 percent of calories per day, starting at age 2.⁴

² National School Lunch Program: 7 CFR 210.10, available at: https://www.ecfr.gov/current/title-7/section-210.10. School Breakfast Program: 7 CFR 220.8, available at: https://www.ecfr.gov/current/title-7/subtitle-B/chapter-II/subchapter-A/part-220#220.8. Child and Adult Care Food Program: 7 CFR 226.20, available at: https://www.ecfr.gov/current/title-7/subtitle-B/chapter-II/subchapter-A/part-226#226.20. Summer Food Service Program: 7 CFR 225.16, available at: https://www.ecfr.gov/current/title-7/subtitle-B/chapter-II/subchapter-A/part-220#220.8.

³ Final Rule, Child Nutrition Programs: Meal Patterns Consistent With the 2020-2025 Dietary Guidelines for Americans (89 FR 31962, April 25, 2024). Available at: https://www.govinfo.gov/content/pkg/FR-2024-04-25/pdf/2024-08098.pdf.

⁴ U.S. Department of Agriculture and U.S. Department of Health and Human Services. Dietary Guidelines for Americans, 2020-2025. 9th Edition. December 2020. Available at DietaryGuidelines.gov. Available at: https://www.dietaryguidelines.gov/resources/2020-2025-dietary-guidelines-online-materials.

Crediting is the process established by FNS to determine how individual foods and beverages contribute toward meal pattern requirements. Menu planners comply with meal pattern requirements by designing menus that offer foods and beverages that “credit” toward meal component requirements. A food is “creditable” when it meets the minimum standards that count toward a reimbursable meal or snack. Generally, this means foods are grouped into categories of similar foods that are credited in a similar way. FNS' crediting system intends to provide simple information that allows Program operators to (1) easily plan menus with foods and beverages in quantities that meet meal pattern requirements, and (2) offer foods and beverages in a way that encourages healthy habits and teaches participants how to build well-balanced meals. Crediting information is conveyed to Program operators through regulations, resources such as FNS' Food Buying Guide for Child Nutrition Programs, and other guidance and technical assistance materials.

Several factors impact how foods and beverages credit toward CNP meal pattern requirements. Crediting decisions are made on the fullest range of factors possible to ensure transparency and consistency. The overall nutrient profile of a food is a primary consideration. Generally, foods in each meal component are based on a range of nutrients, rather than an individual product's specific nutrient profile. Another important factor is the usual and customary function of the food in a meal or a snack. One example of this principle is coffee cake offered at breakfast. In school breakfast, all cake varieties are prohibited from being offered to meet the grains requirement, except for coffee cake. Coffee cake has historically been allowed to contribute toward the grains requirement at school breakfast given its “usual and customary” function as a popular grain item served at breakfast in the United States. Foods and beverages that credit toward reimbursable meals and snacks sometimes have a Federal standard of identity. Federal standards of identity are established by the U.S. Food and Drug Administration (FDA) and the USDA Food Safety and Inspection Service (FSIS). They are mandatory requirements that determine what a food must contain to be marketed and sold under a certain name. FNS relies on FDA's and FSIS' standards of identity because they provide a common Federal standard under which specific foods are made. This allows FNS to establish crediting policy with confidence that products from all manufacturers will have the same characteristics and make consistent contributions to Program meal patterns.

FNS first considers Federal standards of identity when making crediting decisions. There are some commercial products on the market that do not have an FDA or FSIS standard of identity but have industry-defined standards. When a Federal standard of identity does not exist, FNS may use industry standards for production to better understand the manufacturing process. Finally, when making crediting decisions, FNS considers the role of CNPs in teaching participants healthy eating habits.

FNS evaluates the CNPs' food crediting system on an ongoing basis to keep pace with the evolving food and nutrition environment, ensure participants have access to the nutrition they need, and offer excellent customer service to those operating, and benefitting from, the Programs. It is important that FNS' crediting system balances the nutritional needs of participants, as recommended by the Dietary Guidelines, and the need to offer flexibility and a wide range of choices to Program operators. In this Request for Information, FNS seeks public input in two areas: grain-based desserts and high-protein yogurt (which may include Greek and Greek-style yogurt), including how those terms are defined and how those foods should credit toward meal pattern requirements.

Grain-Based Desserts

Grains play an important role in CNPs, helping Program operators offer a variety of food options for participants to enjoy as part of their meals and snacks. Products that are considered grain-based desserts may be offered to meet part of the grains requirement in some CNPs. Menu planners may offer grain-based desserts to encourage whole grains consumption and/or provide participants with foods they enjoy while still meeting nutritional standards. Under current policy, grain-based desserts include foods that are typically considered desserts, such as cakes, cookies and brownies, as well as other foods such as breakfast bars and toaster pastries. The Food Buying Guide for Child Nutrition Programs, Exhibit A: Grain Requirements for Child Nutrition Programs designates examples of grain-based desserts with superscripts 3, 4, and 5.⁵ Nutritionally, grains are important sources of many nutrients, including complex carbohydrates, dietary fiber, several B vitamins, and minerals (e.g., iron, magnesium, and selenium); however, while their added sugars content varies, grain-based desserts are also often higher in added sugars than other grains typically offered at breakfast, such as bagels, English muffins, oatmeal, or toast.

⁵ U.S. Department of Agriculture, Food Buying Guide for Child Nutrition Programs. Available at: https://foodbuyingguide.fns.usda.gov/Appendix/DownLoadFBG. See: Section 4—Grains, Exhibit A: Grain Requirements for Child Nutrition Programs, for a non-exhaustive list of grain-based dessert examples.

The FDA defines the term “high” in its nutrient claim regulations (21 CFR 101.54(b)) as a food with 20 percent or more of the Reference Daily Intake (RDI) or Daily Reference Value (DRV) for a nutrient per Reference Amount Customarily Consumed (RACC), as established in 21 CFR 101.9(c)(8)(iv) or 21 CFR 101.9(c)(9), respectively.⁶ The DRV for added sugars for adults and children ages four years and older is 50 grams per day,⁷ and 25 grams per day for children ages one to three years old.⁸ Under that definition, a grain food would be “high in added sugars” if it contains 10 or more grams of added sugars per RACC for adults and children ages four and older; or 5 or more grams of added sugars per RACC for children ages one to three years. FNS could consider using FDA's definition of “high” for use on food label nutrient content claims to define “grains high in added sugars” and develop resources related to “grains high in added sugars” to reduce added sugars in meals and snacks.

⁶ See 21 CFR 101.54 Nutrient content claims for “good source,” “high,” “more,” and “high potency.” Available at: https://www.ecfr.gov/current/title-21/chapter-I/subchapter-B/part-101/subpart-D/section-101.54

⁷ Based on the reference caloric intake of 2,000 calories for adults and children aged 4 years and older, and for pregnant women and lactating women.

⁸ Based on the reference caloric intake of 1,000 calories for children 1 through 3 years of age.

Given this context, FNS is gathering additional public input on how to make its guidance related to grain-based desserts (and other grains high in added sugars) more effective at reducing added sugars in CNP menus, while also providing Program operator flexibility in menu planning, maintaining participant satisfaction, and continuing to make investments in the healthy, balanced diets of Program participants.

Consistent with the Dietary Guidelines' recommendation to reduce intakes of cakes, cookies, brownies, and other grain-based desserts, FNS has implemented limits for grain-based desserts to reduce added sugars in some Programs: ⁹

⁹ U.S. Department of Agriculture and U.S. Department of Health and Human Services. Dietary Guidelines for Americans, 2020-2025. 9th Edition. December 2020. p. 33. Available at: https://www.dietaryguidelines.gov/.

• SBP Kindergarten—Grade 12: Schools are prohibited from offering cookies, dessert pies, cobbler, brownies, and all cake varieties (except coffee cake) toward the grains requirement at breakfast.¹⁰

¹⁰ For additional information, see SP 19-2024, CACFP 07-2024, SFSP 12-2024, Initial Implementation Memorandum: Child Nutrition Programs: Meal Patterns Consistent With the 2020-2025 Dietary Guidelines for Americans, published May 14, 2024, available at: https://www.fns.usda.gov/cn/initial-implementation-meal-patterns-dga.

• NSLP Kindergarten-Grade 12: Schools may offer up to two ounce equivalents of grain-based desserts per week at lunch.¹¹

¹¹ 7 CFR 210.10(c)(2)(iv)(C), available at: https://www.ecfr.gov/current/title-7/part-210#p-210.10(c)(2)(iv)(C).

• NSLP/SBP Preschool: Grain-based desserts do not credit toward grains requirements.¹²

¹² 7 CFR 210.10(o)(3)(ii), Table 5, available at: https://www.ecfr.gov/current/title-7/part-210#p-210.10(o)(3)(ii).

• NSLP afterschool snack service: Grain-based desserts will not credit toward grains requirements, beginning in SY 2025-2026.¹³

¹³ For additional information, see Final Rule, Child Nutrition Programs: Meal Patterns Consistent With the 2020-2025 Dietary Guidelines for Americans (89 FR 31962, April 25, 2024). Available at: https://www.govinfo.gov/content/pkg/FR-2024-04-25/pdf/2024-08098.pdf.

• Child and Adult Care Food Program: Grain-based desserts do not credit toward grains requirements.¹⁴

¹⁴ 7 CFR 226.20(a)(4)(iii), available at: https://www.ecfr.gov/current/title-7/part-226/section-226.20#p-226.20(a)(4)(iii).

On February 7, 2023, FNS issued a proposed rule to update CNP meal pattern requirements: Child Nutrition Programs: Revisions to Meal Patterns Consistent With the 2020 Dietary Guidelines for Americans.¹⁵ The rule included a proposal to limit grain-based desserts in the SBP to no more than two ounce equivalents per week, consistent with the NSLP. However, based on public comments, FNS did not finalize that proposed limit in the final rule, Child Nutrition Programs: Meal Patterns Consistent With the 2020-2025 Dietary Guidelines for Americans.¹⁶ Some of those comments noted that the definition of grain-based desserts does not explicitly focus on the amount of added sugars; some products high in added sugars are not classified as grain-based desserts; and some products that are included may have lower amounts of added sugars, depending on their formulation. In addition, commenters expressed concerns that the proposal would limit options at school breakfast, particularly for grab-and-go breakfasts, and recommended that FNS re-evaluate. As a result, FNS is seeking targeted public input on how to assist partners in considering the role of grain-based desserts and potentially other grain products high in added sugars to help inform next steps.

¹⁵ Proposed Rule, Child Nutrition Programs: Revisions to meal patterns consistent with the 2020 Dietary Guidelines for Americans. (88 FR 8050, February 7, 2023). Available at: https://www.ecfr.gov/current/title-7/part-210#p-210.10(o)(3)(ii).

¹⁶ Final Rule, Child Nutrition Programs: Meal Patterns Consistent With the 2020-2025 Dietary Guidelines for Americans (89 FR 31962, April 25, 2024). Available at: https://www.govinfo.gov/content/pkg/FR-2024-04-25/pdf/2024-08098.pdf.

To make progress toward reducing added sugars in CNPs, the final rule referenced above gradually phases in product-based and weekly added sugars limits. Product-based limits will be required for breakfast cereals, yogurt, and flavored milk by July 1, 2025, and added sugars will be limited to no more than 10 percent of total calories, per week, by July 1, 2027. FNS expects that the weekly limits will lead menu planners to choose grains that are lower in added sugars as they adjust their menu offerings to meet the limits. However, weekly limits also give menu planners flexibility to occasionally offer grains higher in added sugars, provided they are balanced with foods that are lower in added sugars throughout the week. While FNS recognizes that many partners prefer consistent requirements across the CNPs, the weekly limits for added sugars only apply to SBP and NSLP. Therefore, this approach would only be applicable to the school meals programs (SBP and NSLP).

FNS is considering how to best support schools as they work to meet the aforementioned added sugars requirements and is interested in understanding what guidance and technical assistance Program operators needed to help them identify grains high in added sugars and consider them in menu planning. FNS is also interested in partner input on how to improve and simplify its current grain-based desserts requirements, including whether changes would support efforts to reduce added sugars in the CNPs.

FNS welcomes public input on this topic and invites the public to submit other ideas to simplify current guidance, assist CNP operators in managing the use of grain-based desserts and other grain products high in added sugars, support schools in meeting the forthcoming added sugars limits, and reduce children's consumption of added sugars in the CNPs.

High-Protein Yogurt Crediting

In addition to seeking input on grain-based desserts, FNS also seeks public input related to high-protein yogurt (which may include Greek and Greek-style yogurt), including how such yogurt is defined, if a definition separate from regular yogurt is warranted, and how high-protein yogurt should credit toward CNP meal pattern requirements.

Yogurt is a popular menu item and may credit toward all or part of the meats/meat alternates component in the CNPs.¹⁷ Nutritionally, yogurt is a source of calcium, zinc, potassium, and probiotics.¹⁸ Yogurt may be offered in a variety of forms: plain or flavored, unsweetened or sweetened, strained or non-strained, or high-protein or regular. It can be offered as a standalone option, or in different menu items, such as yogurt parfaits or smoothies. Current regulations establish that four ounces (weight) or ½ cup (volume) of yogurt credits in the CNPs as one ounce equivalent of meat alternate.¹⁹ FDA maintains a single standard of identity for all yogurt; there is not a separate standard of identity for high-protein yogurt, nor for Greek or Greek-style yogurt.²⁰

¹⁷ USDA's School Nutrition and Meal Cost Study found that low-fat or fat-free yogurt was offered in 10 percent of all daily lunch menus and was more frequently offered in daily menus in elementary schools than middle or high school menus. In SBP, Yogurt (mostly low-fat or fat-free) was the most frequently offered meat/meat alternate item and was included in one-quarter (25 percent) of all daily breakfast menus. Additional information is available at: https://www.fns.usda.gov/school-nutrition-and-meal-cost-study.

¹⁸ U.S. Department of Agriculture, Agricultural Research Service, Beltsville Human Nutrition Research Center. FoodData Central, available at: https://fdc.nal.usda.gov/fdc-app.html#/food-details/2647437/nutrients.

¹⁹ In NSLP, SBP and CACFP, 4 ounces or 12044;2 cup of yogurt equals 1 ounce of the meats/meat alternates requirement, according to 7 CFR 210.10(c)(2)(i)(C), 7 CFR 220.8(c)(2)(i)(C), and 7 CFR 226.20(a)(5)(iii). In the SFSP, 4 ounces or ½ cup of yogurt may credit as 1 ounce of the meats/meat alternates component for breakfast and snack. For lunch and supper, 8 ounces or 1 cup of yogurt may credit as 2 ounces of the meats/meat alternates component, per 7 CFR 225.16(d)).

²⁰ FDA standard of identity for yogurt is at 21 CFR 131.200, available at: https://www.ecfr.gov/current/title-21/chapter-I/subchapter-B/part-131/subpart-B/section-131.200.

Yogurt crediting in the CNPs was established in 1997. Since then, the variety of yogurt available at retail and in the K-12 market has grown and evolved significantly. Manufacturers offer a range of flavors and varieties, including high-protein yogurt (which may include Greek and Greek-style yogurt) and plant-based yogurt, to cater to diverse consumer preferences. High-protein yogurt (including some Greek and Greek-style yogurt) continues to expand in availability and popularity; it differs from regular yogurt due to its unique manufacturing process, which typically involves straining the product to remove liquid whey, resulting in a thicker yogurt with higher protein content. Yogurt can also be thickened without straining, by ultrafiltration,²¹ or by adding a thickening agent (e.g., gelatin, pectin, agar, guar gum, starch) or optional dairy ingredients. Thickening agents can be made from proteins, polysaccharides, or optional dairy ingredients, and their use can increase a food's protein content. Straining, ultrafiltration, and the addition of dairy ingredients can result in a thicker, higher protein yogurt, compared to regular yogurt.

²¹ Ultrafiltration is a filtration process used to concentrate yogurt and other dairy products, such as Greek and Greek-style yogurt. The process separates the product into two streams, allowing water, acids, salts, and lactose to pass through, while retaining the fat and proteins. This allows manufacturers to produce yogurt varieties with different protein and fat contents.

FNS collaborates with industry partners to ensure that products are available for menu planners to offer nutritious foods and beverages that participants enjoy. In 2013, USDA operated a pilot program designed to test the cost effectiveness of making “Greek-style yogurt” available to schools in four States via USDA Foods in Schools. Greek-style yogurt is popular in school meals and schools expressed interest in procuring such yogurt via USDA Foods in Schools.²² As a result, USDA expanded the pilot in SY 2014-2015, making Greek-style yogurt available via USDA Foods in Schools in eight additional States. Beginning in SY 2015-2016, USDA added high-protein (Greek-style) yogurt as a food available for all schools to order through USDA Foods in Schools. On average, approximately 1.8 million pounds of high-protein yogurt are delivered to schools through USDA Foods annually, including strawberry cups (4 oz.), blueberry cups (4 oz.), vanilla cups (4 oz.), and vanilla tubs (32 oz.).²³

²² USDA Press release, Expanding Healthy, American-Produced Food Offerings to Our Schools—USDA's Pilot Program for Greek-Style Yogurt (March 12, 2014). Available at: https://www.usda.gov/media/blog/2014/03/12/expanding-healthy-american-produced-food-offerings-our-schools-usdas-pilot#:~:text=These%20states%20were%20able%20to,totaled%20199%2C800%20pounds%20of%20yogurt.

²³ FNS Administrative Data.

In 2017, FNS issued a Request for Information to solicit public input on a variety of crediting topics, including high-protein yogurt, and received a total of 437 comments. Most comments came from Program operators and individuals, but the food industry, advocacy organizations, and State agencies also submitted comments. In the 2017 Request for Information, FNS asked if a separate crediting standard should be created for high-protein yogurt that is different than the crediting standard for regular yogurt.²⁴ Some commenters supported changes to yogurt crediting; however, overall, comments were mixed. Many commenters noted that two different yogurt crediting standards could cause confusion and suggested that crediting based on greater or lesser amounts of a single nutrient is inconsistent with food-based menu planning.²⁵ As a result, FNS maintained consistent crediting for all yogurt in the CNPs: four ounces, or ½ cup, of yogurt credits as one ounce equivalent of meat alternate.

²⁴ Food Crediting in Child Nutrition Programs: Request for Information. 82 FR 58792. Published December 14, 2017. Available at: https://www.federalregister.gov/documents/2017/12/14/2017-26979/food-crediting-in-child-nutrition-programs-request-for-information. All comments are available for review at https://www.regulations.gov/docket?D=FNS-2017-0044.

²⁵ A single food-based menu planning approach, required since SY 2012-13, simplifies menu planning, serves as a teaching tool to help children choose a balanced meal, and assures that students nationwide have access to key food groups recommended by the Dietary Guidelines. It also makes it easier for schools to communicate meal standards to parents and the broader community.

As the CNPs and product availability continue to evolve, FNS seeks additional public input regarding high-protein yogurt crediting. This includes whether FNS should allow a lesser volume (i.e., a smaller serving size) of high-protein yogurt to credit toward the meats/meat alternates meal component compared to regular yogurt. Additionally, if different crediting is warranted, FNS seeks input on how to define high-protein yogurt. Similar to “grains high in added sugars,” in the absence of a Federal standard of identity, a definition of “high-protein yogurt” could be informed by FDA's “high” nutrient claim.²⁶ The DRV for protein for adults and children ages four years and older is 50 grams per day,²⁷ and 13 grams per day for children ages one to three years old.²⁸ Under that definition, a “high-protein yogurt” must have at least 6.7 grams of protein per four ounce serving for adults and children ages four and older; or at least 2.6 grams of protein per four ounce serving for children ages one to three years.²⁹ FNS could adopt FDA's definition of “high” for use on food label nutrient content claims to define “high-protein yogurt” as yogurt that provides at least 6.7 grams of protein per four ounce serving for ages four and older, and 2.6 grams of protein per four ounce serving for ages one to three years.

²⁶ The FDA defines “high” protein in its nutrient claim regulations as food with 20 percent or more of the Reference Daily Intake (RDI) or Daily Reference Value (DRV) for protein, as established in 21 CFR 101.9(c)(8)(iv) or 21 CFR 101.9(c)(9), respectively. See 21 CFR 101.54 Nutrient content claims for “good source,” “high,” “more,” and “high potency.” Available at: https://www.ecfr.gov/current/title-21/chapter-I/subchapter-B/part-101/subpart-D/section-101.54.

²⁷ Based on the reference caloric intake of 2,000 calories for adults and children aged 4 years and older, and for pregnant women and lactating women.

²⁸ Based on the reference caloric intake of 1,000 calories for children 1 through 3 years of age.

²⁹ Protein values have been adjusted down proportionately to align with CNP meal pattern requirements which differ slightly from FDA's Reference Amount Customarily Consumed (RACC) for yogurt, which is 6 ounces for ages 4 years and older. FDA does not currently specify a RACC for yogurt for ages 1-3 years in 21 CFR 101.12; however, FDA suggests a RACC of 4 oz for milk for ages 1-3 years (see question B.9 in Guidance for Industry Food Labeling Serving Sizes of Foods). Yogurt and milk have similar product characteristics (e.g., both are dairy products), which is the one of the three serving size general principles. Based on this guidance from FDA, FNS is using a RACC of four ounces for yogurt for ages one year and older.

USDA has already adopted FDA's definition of “high” for nutrient claims in high-protein yogurt in some Programs. USDA Foods began using FDA's definition of “high” for nutrient claims in high-protein yogurt in 2013. The most recent USDA Commodity Requirements—Yogurt Products specification references the USDA Agricultural Marketing Service's Commercial Item Description for Yogurt, which includes the following: “6.1.2. High protein. Shall conform to the Standard of Identity for yogurt (21 CFR 131.200), lowfat yogurt (21 CFR 131.203), or nonfat yogurt (21 CFR 131.206) and shall meet the FDA requirements for a “high” nutrient content claim for protein (21 CFR 101.54(b)(1)).” ³⁰ In addition, USDA`s Agricultural Marketing Service is currently updating the yogurt specification to include added sugars limits, and the specifications are expected to continue directly referencing FDA's definition of “high” for nutrient content claims.

³⁰ USDA Agriculture Marketing Service, Commercial Item Description: Yogurt. Available at: https://www.ams.usda.gov/sites/default/files/media/CID%20Yogurt.pdf.

Public input in response to this Request for Information may inform future FNS policymaking related to how high-protein yogurt (including some Greek and Greek-style yogurt) credits toward meal pattern requirements (i.e., if a separate standard from regular yogurt is warranted) and, if so, how Program operators can identify high-protein yogurt.

List of Questions for Commenters

FNS is committed to finding ways to ease menu planning for Program operators and ensure that children and adult participants have access to a wide array of nutritious food and beverage choices. Staying up to date with the evolving food environment through ongoing conversations with stakeholders helps FNS learn about additional food options that could improve Program menus. With these general interests in mind, FNS is seeking information on the following questions:

Grain-Based Desserts

Although FNS has taken recent action to reduce added sugars in school meals,³¹ the Agency appreciates the importance of providing more guidance and support to CNP menu planners working to reduce added sugars. FNS welcomes input on the questions below, as well as other suggestions and strategies to help reduce added sugars on CNP menus.

³¹ The final rule, Child Nutrition Programs: Meal Patterns Consistent With the 2020-2025 Dietary Guidelines for Americans (89 FR 31962, April 25, 2024) established product-based added sugars limits for milk, yogurt, and breakfast cereals that are effective July 1, 2025. Additionally, a weekly standard limiting added sugars in SBP and NSLP meals to no more than 10 percent of calories takes effect on July 1, 2027. Additional information is available at: https://www.govinfo.gov/content/pkg/FR-2024-04-25/pdf/2024-08098.pdf.

Current Policies and Potential Alternatives for Grain-Based Desserts

Certain grain products, including cookies, cakes, cereal bars, and toaster pastries, are categorized as grain-based desserts based on their characteristics. FNS' current policy related to grain-based desserts is detailed in The Food Buying Guide for Child Nutrition Programs, Exhibit A. FNS is interested in public input on its current grain-based desserts policies and other approaches that partners recommend for reducing added sugars in the CNPs.

1. What challenges do Program operators face in identifying grain-based desserts, under the current policies?

2. Is the current NSLP policy that permits up to two ounce equivalents of grain-based desserts per week effective at reducing added sugars in school lunches?

a. The weekly added sugars limit for NSLP will be implemented by July 1, 2027. Will the current grain-based dessert limit for NSLP lunch still be helpful for menu planning purposes, once the weekly added sugars limit is implemented?

3. Should FNS adjust its current grain-based desserts policies, such as changing which grain products are categorized as grain-based desserts?

Input on Grains High in Added Sugars

In addition to potential changes to its current grain-based desserts policies, FNS is also interested in public input on alternative approaches that partners recommend to reduce added sugars in CNP meals. This includes seeking public input on grain products high in added sugars.

1. Should FNS consider alternative approaches to its current grain-based desserts policies, such as replacing these policies with limits for “grains high in added sugars”?

2. If FNS were to establish limits for “grains high in added sugars,” how should the limits be established?

a. Should FNS adopt FDA's definition for “high” for nutrient content claims used on food labels to define “grains high in added sugars”? What are the benefits or limitations of this approach?

b. What opportunities and challenges could arise from having different limits for grains offered to children ages one through three, versus children and adults ages four and older?

c. What other approaches should FNS consider to define “grains high in added sugars”?

Strategies To Reduce Added Sugars at School Breakfast

FNS recognizes the specific challenges with reducing added sugars in school breakfast. The Agency invites public input on effective strategies to reduce added sugars at breakfast, including when using alternative school breakfast models.

1. Are there strategies for reducing added sugars in the SBP that would support menu planners offering a variety of grains in alternative SBP service models (e.g., grab-and-go breakfasts, breakfast in the classroom)?

2. What menu items are schools serving to reduce added sugars at breakfast? Examples may include protein foods (e.g., eggs; meat; tofu; beans, peas, and lentils) or others.

a. Please share examples of breakfast menu items lower in added sugars that are popular with students.

3. What additional resources from FNS could help Program operators reduce added sugars in CNP menus, including breakfast? Resources could include marketing ideas/materials, menu planners, online trainings and courses, and others.

High-Protein Yogurt Crediting

Currently, all yogurt credits the same in CNPs: four ounces (weight) or 1/2 cup (volume) of yogurt is one ounce equivalent of meat alternate. FNS invites public comments to determine if different crediting is warranted for different types of yogurt, including high-protein yogurt, which may include Greek and/or Greek-style yogurt. Responses may help FNS determine how to define and credit high-protein yogurt in the CNPs.

Current Policies

Currently, four ounces (weight) or 1/2 cup (volume) of yogurt credits in the CNPs as one ounce equivalent of meat alternate. High-protein yogurt (which may include Greek and Greek-style yogurt) credits the same as regular yogurt.

1. Are Program operators currently offering Greek or Greek-style yogurt, or other types of yogurt that contain more protein than regular yogurt, as part of reimbursable meals or snacks?

a. To which age groups and in which meals are these types of yogurt offered?

b. How frequently are these types of yogurt offered?

c. Are these types of yogurt popular with participants? Are they more popular than regular yogurt?

2. If Program operators are not offering Greek or Greek-style yogurt, or other types of yogurt that contain more protein than regular yogurt, as frequently as desired, why not? What are the challenges with offering these types of yogurt?

3. Has high-protein yogurt available via USDA Foods in Schools helped school Program operators offer high-protein yogurt to participants?

a. Is high-protein yogurt incorporated into meals, particularly breakfast, in the same manner as traditional yogurt? Please share examples of how high-protein yogurt is used in menus and/or recipes; are traditional and high-protein yogurt used interchangeably or are there novel uses for high-protein yogurt in school meals?

Potential Alternatives

FNS is interested in public input on potential changes to the current yogurt crediting policies, including what changes would be beneficial to Program operators and participants, and any challenges associated with potential changes.

1. Should FNS create a separate crediting standard for high-protein yogurt that is different than the crediting standard for regular yogurt? Why or why not?

2. If high-protein yogurt contributes differently to the CNP meal patterns than regular yogurt, how should high-protein yogurt be credited? Be as specific as possible, such as the volume or weight needed.

3. If high-protein yogurt were to contribute differently to the CNP meal patterns than regular yogurt, should FNS adopt FDA's definition of “high” for nutrient content claims used on food labels to define high-protein yogurt?

a. What are the benefits or limitations of this approach?

b. What opportunities or challenges could arise from having different limits for high-protein yogurt offered to children ages one through three, versus children and adults ages four and older?

4. If high-protein yogurt contributes differently to the CNP meal patterns than regular yogurt, should USDA place any limits on the types of yogurt that can qualify as high-protein yogurt?

a. Should changes be limited to any specific type of high-protein yogurt?

b. Should yogurt that is thickened by adding thickening agents (e.g., polysaccharides or optional dairy ingredients) credit differently in CNPs? If yes, what implications might that approach have on the requirement for Program operators to plan CNP menus using food-based menu planning?

c. Should changes include plant-based yogurt alternatives (e.g., soy-based yogurt alternatives)?

5. What other approaches should USDA consider for how to define and credit high-protein yogurt?

Additional Input

FNS welcomes additional input on its current yogurt crediting policies, potential alternatives for high-protein yogurt, and other feedback from partners.

Disclaimers: This is a Request for Information. This is not a Request for Proposals or a Request for Applications and is not to be construed as a commitment by the U.S. Government to issue any solicitation or Notice of Funding Opportunity, or ultimately award a contract or assistance agreement based on this Request for Information, or to pay for any information voluntarily submitted as a result of this request. The USDA posts its competitive business opportunities on www.grants.gov. It is the potential offeror's/applicant's responsibility to monitor these sites for announcements of new opportunities. Please note that responding to this Request for Information will not give any advantage to any organization or individual in any subsequent competition. Responses may be used by USDA without restriction or limitation, therefore proprietary information should not be sent. Furthermore, this Request for Information does not mean and should not be construed to suggest that FNS will change meal pattern requirements or food crediting. The current CNP meal pattern requirements and food crediting were established in alignment with the existing statutory and regulatory framework. FNS seeks public input to properly assess the feasibility of potentially pursuing an update to guidance, technical assistance resources, and food crediting in the future. If data compelling FNS is available, the Agency would take such information into account as it considers the range of factors relevant to meal pattern requirements and food crediting.

Collection of Information Requirements: This document does not impose information collection requirements, that is, reporting, recordkeeping or third-party disclosure requirements. However, this document does contain a general solicitation of comments in the form of a request for information. In accordance with implementing regulations of the Paperwork Reduction Act of 1995, specifically 5 CFR 1320.3(h)(4), this general solicitation is exempt from the Paperwork Reduction Act. Facts or opinions submitted in response to general solicitations of comments from the public, published in the Federal Register or other publications, regardless of the form or format thereof, provided that no person is required to supply specific information pertaining to the commenter other than that necessary for self-identification, as a condition of the Agency's full consideration, are not generally considered information.

Tameka Owens,
Acting Administrator and Assistant Administrator, Food and Nutrition Service.

[FR Doc. 2024-30710 Filed 12-23-24; 8:45 am]

BILLING CODE 3410-30-P